DEPARTMENT OF JUSTICE

Notice of Lodging of Proposed Consent Decree Under the Clean Air Act

On September 16, 2014, the Department of Justice lodged a proposed Consent Decree with the United States District Court for the Eastern District of Michigan in the lawsuit entitled United States v. Consumers Energy Company., Civil Case. No. 14-13580 (E.D. Mich.).

In this civil enforcement action under the federal Clean Air Act (“Act”), the United States alleges that Consumers Energy Co. (“Defendant”), failed to comply with certain requirements of the Act intended to protect air quality at five Michigan power plants: The J.H. Campbell Plant in West Olive, Michigan; the B.C. Cobb Plant in Muskegon, Michigan; the D.E. Karn Plant in Essexville, Michigan; and the J.C. Weadock Plant in Essexville, Michigan. The complaint seeks injunctive relief and civil penalties for violations of the Act's Prevention of Significant Deterioration (“PSD”) provisions, 42 U.S.C. 7470-92, the Act's Title V permit provisions (“Title V”), 42 U.S.C. 7661a-76661f, and certain visible air pollutant (“opacity”) and particulate matter (“PM”) limitations contained in Defendant's Title V permits and as set forth in various implementing regulations. The complaint alleges that Defendant failed to obtain appropriate permits and failed to install and operate required pollution control devices to reduce emissions of sulfur dioxide (“SO2”) and/or nitrogen oxides (“NOX”) at the Campbell, Cobb, Karn, and Weadock plants, and that Defendant has operated certain units at the plants while exceeding opacity and PM limitations.

The proposed Consent Decree would resolve violations for certain provisions of the Act at the Campbell, Cobb, Karn, and Weadock plants, as well as the Whiting Plant in Luna Pier, Michigan, through December 31, 2017, and would require the Defendant to reduce harmful SO2, NOX, and PM emissions, at the five power plants. The emission reductions would be achieved through emission control requirements and limitations specified by the proposed consent decree, including installation and operation of pollution controls; retirement or refueling of certain generating units; and annual emission caps at the power plants. The Defendant will also spend $7.7 million to fund environmental mitigation projects that will further reduce emissions and benefit communities adversely affected by the pollution from the five plants, and pay a civil penalty of $2.75 million.

The publication of this notice opens a period for public comment on the proposed Consent Decree. Comments should be addressed to the Assistant Attorney General, Environment and Natural Resources Division, and should refer to United States v. Consumers Energy Company., Civil Case. No. 14-13580 (E.D. Mich.), D.J. Ref. No. 90-5-2-1-09771. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.usdoj.gov/enrd/Consent_Decrees.html. The Justice Department will provide a paper copy of the proposed Consent Decree upon written request and payment of reproduction costs. Please mail your request and payment to:

Consent Decree Library,

U.S. DOJ—ENRD,

P.O. Box 7611,

Washington, DC 20044-7611.

Please enclose a check or money order for $28.75 (25 cents per page reproduction cost) payable to the United States Treasury.

Maureen Katz,
Assistant Section Chief, Environmental Enforcement Section, Environment and Natural Resources Division.

[FR Doc. 2014-22435 Filed 9-19-14; 8:45 am]

BILLING CODE 4410-15-P